DEPARTMENT OF TRANSPORTATION

Federal Aviation Administration

14 CFR Part 39

[Docket No. FAA-2024-0995; Project Identifier MCAI-2023-01075-T; Amendment 39-22897; AD 2024-24-07]

RIN 2120-AA64

Airworthiness Directives; MHI RJ Aviation ULC (Type Certificate Previously Held by Bombardier, Inc.) Airplanes

AGENCY: Federal Aviation Administration (FAA), DOT.

ACTION: Final rule.

SUMMARY: The FAA is adopting a new airworthiness directive (AD) for certain MHI RJ Aviation ULC Model CL-600-2B19 (Regional Jet Series 100 & 440) airplanes. This AD was prompted by a determination that the overhead bin attachment could fail under certain conditions. This AD requires replacing existing overhead bin hook assemblies and support tubes with a different type, as specified in a Transport Canada AD, which is incorporated by reference (IBR). The FAA is issuing this AD to address the unsafe condition on these products.

DATES: This AD is effective January 13, 2025.

The Director of the Federal Register approved the incorporation by reference of a certain publication listed in this AD as of January 13, 2025.

ADDRESSES:

AD Docket: You may examine the AD docket at regulations.gov under Docket No. FAA-2024-0995; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca; website at tc.canada.ca/en/aviation.

• You may view this material at the FAA, Airworthiness Products Section, Operational Safety Branch, 2200 South 216th St., Des Moines, WA. For information on the availability of this material at the FAA, call 206-231-3195. It is also available at regulations.gov under Docket No. FAA-2024-0995.

FOR FURTHER INFORMATION CONTACT: Fatin Saumik, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain MHI RJ Aviation ULC Model CL-600-2B19 (Regional Jet Series 100 & 440) airplanes. The NPRM published in the Federal Register on April 9, 2024 (89 FR 24745). The NPRM was prompted by AD CF-2023-71, dated October 16, 2023 (Transport Canada AD CF-2023-71) (also referred to as the MCAI), issued by Transport Canada, which is the aviation authority for Canada. The MCAI states that during a review of the certification test of the overhead bin configuration (also referred to as overhead storage compartment), it was discovered that the aft serrated hook attachment could fail when the overhead bin is subjected to the 9G forward emergency landing condition certification requirements. A design review revealed that a tolerance buildup could lead to a lack of engagement between the serrated hooks and the supporting serrated tube. This condition leads to a lack of forward load reaction capability, which is essential during an emergency landing, and could result in displacement of the overhead bins. As a result, the overhead bins could fall on the occupants and/or prevent access to emergency exits.

In the NPRM, the FAA proposed to require replacing existing overhead bin hook assemblies and support tubes with a different type, as specified in Transport Canada AD CF-2023-71. The FAA is issuing this AD to address the unsafe condition on these products.

You may examine the MCAI in the AD docket at regulations.gov under Docket No. FAA-2024-0995.

Discussion of Final Airworthiness Directive

Comments

The FAA received comments from Air Wisconsin Airlines. The following presents the comments received on the NPRM and the FAA's response to each comment.

Request for Revising the Applicability

Air Wisconsin Airlines requested that the FAA list the serial numbers the proposed AD is applicable to, instead of stating the proposed AD applies to MHI RJ Aviation ULC Model CL-600-2B19 (Regional Jet Series 100 & 440) airplanes as identified in Transport Canada AD CF-2023-71. The commentator stated Transport Canada AD CF-2023-71 lists the applicable serial numbers.

The FAA disagrees with the request. As noted by the commenter, paragraph (c) of this AD states that this AD applies to Model CL-600-2B19 (Regional Jet Series 100 & 440) airplanes as identified in Transport Canada AD CF-2023-71, which lists the affected serial numbers. This AD was developed using the “incorporate by reference (IBR) the MCAI” method, which simplifies FAA ADs and facilitates a simpler AD process. The applicability of FAA ADs developed using the IBR the MCAI process identifies the airplane models that are on the U.S. type certificate data sheet and refers to the MCAI AD for the specific affected airplanes. The FAA has not changed this AD in this regard.

Request for Revising Estimated Costs

Air Wisconsin Airlines requested the FAA amend the “Costs of Compliance” paragraph in the NPRM to include an additional 120 hours if actions are not completed during a “heavy check.” The commenter stated that the estimate of 21 labor hours does not account for the removal and installation of interior products (e.g., seats, sidewall, panels, ceiling panels, etc.) as specified in one of the aircraft maintenance manual (AMM) tasks.

The FAA agrees with the request. The FAA has revised the “Costs of Compliance” paragraph of this final rule accordingly.

Request To Refer to an Additional Document

Air Wisconsin Airlines requested the addition of MHI RJ Reference Instruction Letter (RIL) 10059, Revision A, dated June 6, 2024, to the proposed AD because AMM Task 25-23-01-400-805 was not yet published in the AMM. The commenter stated that MHI RJ Service Bulletin 601R-25-206, dated June 29, 2023, instructs installation of overhead bins and references AMM Task 25-23-01-400-805.

The FAA agrees with this request. MHI RJ Reference Instruction Letter (RIL) 10059, Revision A, dated June 6, 2024, may also be referred to for the installation of overhead bins. The FAA has added paragraph (h)(3) to this AD accordingly.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

Transport Canada AD CF-2023-71 specifies procedures for the replacement of the existing serrated hook assemblies and serrated support tubes with hook assemblies using a shear pin and non-serrated support tubes on the overhead bins.

This material is reasonably available because the interested parties have access to it through their normal course of business or by the means identified in ADDRESSES.

Costs of Compliance

The FAA estimates this AD affects 230 airplanes of U.S. registry. The FAA estimates the following costs to comply with this AD:

Estimated Costs for Required Actions
Labor cost | Parts cost | Cost per product | Cost on U.S. operators
141 * work-hours × $85 per hour = $11,985 | $1,764 | $13,749 | $3,162,270
* This figure does not include the time (up to 24 hours) for curing the sealant applied around the new hook assembly.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-24-07 MHI RJ Aviation ULC (Type Certificate Previously Held by Bombardier, Inc.): Amendment 39-22897; Docket No. FAA-2024-0995; Project Identifier MCAI-2023-01075-T.

(a) Effective Date

This airworthiness directive (AD) is effective January 13, 2025.

(b) Affected ADs

None.

(c) Applicability

This AD applies to MHI RJ Aviation ULC (Type Certificate previously held by Bombardier, Inc.) Model CL-600-2B19 (Regional Jet Series 100 & 440) airplanes, certificated in any category, as identified in Transport Canada AD CF-2023-71, dated October 16, 2023 (Transport Canada AD CF-2023-71).

(d) Subject

Air Transport Association (ATA) of America Code 25, Equipment/furnishings.

(e) Unsafe Condition

This AD was prompted by a determination that the overhead bin attachment could fail under certain conditions. The FAA is issuing this AD to address a lack of forward load reaction capability during a high forward G emergency landing condition that could result in displacement of the overhead bins. The unsafe condition, if not addressed, could result in the overhead bins falling on the occupants and/or preventing access to emergency exits.

(f) Compliance

Comply with this AD within the compliance times specified, unless already done.

(g) Requirements

Except as specified in paragraph (h) of this AD: Comply with all required actions and compliance times specified in, and in accordance with, Transport Canada AD CF-2023-71.

(h) Exception to Transport Canada AD CF-2023-71

(1) Where Transport Canada AD CF-2023-71 refers to its effective date, this AD requires using the effective date of this AD.

(2) Where Transport Canada AD CF-2023-71 refers to hours air time, this AD requires using flight hours.

(3) Where the service information specified in Transport Canada AD CF-2023-71, specifies to “refer to AMM 25-23-01-400-805,” for this AD, replace that text with ” refer to AMM 25-23-01-400-805 or MHI RJ Reference Instruction Letter (RIL) 10059, Revision A, dated June 6, 2024.”

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or MHI RJ Aviation ULC's Transport Canada Design Approval Organization (DAO). If approved by the DAO, the approval must include the DAO-authorized signature.

(j) Additional Information

For more information about this AD, contact Fatin Saumik, Aviation Safety Engineer, FAA, 1600 Stewart Avenue, Suite 410, Westbury, NY 11590; telephone 516-228-7300; email 9-avs-nyaco-cos@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Transport Canada AD CF-2023-71, dated October 16, 2023.

(ii) [Reserved]

(3) For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca. You may find this Transport Canada AD on the Transport Canada website at tc.canada.ca/en/aviation.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on November 21, 2024.
Victor Wicklund,
Deputy Director, Compliance & Airworthiness Division, Aircraft Certification Service.

[FR Doc. 2024-28786 Filed 12-6-24; 8:45 am]

BILLING CODE 4910-13-P